DEPARTMENT OF TRANSPORTATION

Federal Aviation Administration

Notice of Opportunity for Public Comment on Surplus Property Release at Jack Edwards Airport, Gulf Shores, AL

AGENCY: Federal Aviation Administration (FAA), DOT.

ACTION: Notice of intent to rule on land release request.

SUMMARY: Under the provisions of Title 49, U.S.C. Section 47153(c), notice is being given that the FAA is considering a request from the City of Gulf Shores, Alabama to release for future sale to commercial or industrial users a parcel containing 15.35 acres of surplus property, located at the Jack Edwards Airport.

DATES: Comments must be received on or before February 18, 2005.

ADDRESSES: Comments on this notice may be mailed or delivered in triplicate to the FAA at the following address: Jackson Airports District Office, 100 West Cross Street, Suite B, Jackson, MS 39208-2307.

In addition, one copy of any comments submitted to the FAA must be mailed or delivered to The Honorable Billy Duke, Mayor of Gulf Shores, Alabama at the following address: Post Office Box 299, Gulf Shores, AL 36547-0299.

FOR FURTHER INFORMATION CONTACT: William Schuller, Program Manager, Jackson Airports District Office, 100 West Cross Street, Suite B, Jackson, MS 39208-2307, (601) 664-9883. The land release request may be reviewed in person at this same location.

SUPPLEMENTARY INFORMATION: The FAA is reviewing a request by the City of Gulf Shores to release 15.35 acres of surplus property at the Jack Edwards Airport. The property will be sold in whole or in part to commercial users for fair market value. The property is contiguous with the existing industrial park located in the southeast corner of the airport. The net proceeds from the sale of this property will be used for airport projects approved by the FAA.

Any person may inspect the request in person at the FAA office listed above under FOR FURTHER INFORMATION CONTACT.

In addition, any person may, upon request, inspect the request, notice and other documents germane to the request in person at the City Hall, City of Gulf Shores, Alabama.

Issued in Jackson, Mississippi, on January 11, 2005.
Rans D. Black,
Manager, Jackson Airports District Office, Southern Region.

[FR Doc. 05-966 Filed 1-18-05; 8:45 am]

BILLING CODE 4910-13-M